DEPARTMENT OF HEALTH AND HUMAN SERVICES

Centers for Medicare & Medicaid Services

[Document Identifier: CMS-10146 and CMS-10147]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: Notice of Denial of Medicare Prescription Drug Coverage; Form No.: CMS-10146 (OMB# 0938-NEW); Use: Pursuant to 42 CFR 423.568(c), if a Part D plan denies drug coverage, in whole or in part, the Part D plan must give the enrollee written notice of the coverage determination; Frequency: Other: Distribution; Affected Public: Business or other for profit, Not-for-profit institutions; Individuals or Households and Federal Government; Number of Respondents: 450; Total Annual Responses: 1,056,000; Total Annual Hours: 528,000.

2. Type of Information Collection Request: New Collection; Title of Information Collection: Medicare Prescription Drug Coverage and Your Rights; Form No.: CMS-10147 (OMB # 0938-NEW); Use: Pursuant to 42 CFR 423.562(a)(3), a Part D plan sponsor must arrange with its network pharmacies to post or distribute notices informing enrollees to contact their plan to request a coverage determination or an exception if the enrollee disagrees with the information provided by the pharmacy; Frequency: Other: Distribution; Affected Public: Business or other for profit, Not-for-profit institutions; Individuals or Households and Federal Government; Number of Respondents: 41,000; Total Annual Responses: 35,000,000; Total Annual Hours: 583,333.

To obtain copies of the supporting statement and any related forms for these paperwork collections referenced above, access CMS Web site address at http://www.cms.hhs.gov/regulations/pra/, or e-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on October 31, 2005.

OMB Human Resources and Housing Branch, Attention: Christopher Martin, New Executive Office Building, Room 10235, Washington, DC 20503.

Dated: September 23, 2005.
Michelle Shortt,
Director, Regulations Development Group, Office of Strategic Operations and Regulatory Affairs.

[FR Doc. 05-19581 Filed 9-29-05; 8:45 am]

BILLING CODE 4120-01-P